DEPARTMENT OF THE INTERIOR

Fish and Wildlife Service

[FWS-R1-ES-2015-N225; FXES11130100000C4-167-FF01E00000]

Endangered and Threatened Wildlife and Plants; Initiation of 5-Year Status Reviews of 76 Species in Hawaii, Oregon, Washington, Montana, and Idaho

AGENCY: Fish and Wildlife Service, Interior.

ACTION: Notice of initiation of reviews; request for information.

SUMMARY: We, the U.S. Fish and Wildlife Service (Service), are initiating 5-year status reviews for 76 species in Hawaii, Oregon, Washington, Montana, and Idaho under the Endangered Species Act of 1973, as amended (Act). A 5-year status review is based on the best scientific and commercial data available at the time of the review; therefore, we are requesting submission of any new information on these species that has become available since the last review.

DATES: To ensure consideration in our reviews, we are requesting submission of new information no later than April 12, 2016. However, we will continue to accept new information about any listed species at any time.

ADDRESSES: For the 67 species in Hawaii (see table below), submit information via U.S. mail to: Deputy Field Supervisor—Programmatic; Attention: 5-Year Review; U.S. Fish and Wildlife Service; Pacific Islands Fish and Wildlife Office; 300 Ala Moana Blvd., Room 3-122, Box 50088; Honolulu, HI 96850.

For the Warner sucker, Willamette daisy, Kincaid's lupine, and rough popcornflower, submit information via U.S. mail to: Field Supervisor; Attention: 5-Year Review; U.S. Fish and Wildlife Service; Oregon Fish and Wildlife Office; 2600 SE 98th Ave., Suite 100; Portland, OR 97266.

For the northern Idaho ground squirrel, Bruneau Hot springsnail, Bliss Rapids, snail, Banbury Springs limpet, and Spaldings catchfly, submit information via U.S. mail to: Field Supervisor; Attention: 5-Year Review; U.S. Fish and Wildlife Service; Idaho Fish and Wildlife Office; 1387 S. Vinnell Way, Suite 368; Boise, ID 83709.

FOR FURTHER INFORMATION CONTACT: Gregory Koob, U.S. Fish and Wildlife Service, Pacific Islands Fish and Wildlife Office (see ADDRESSES), 808-792-9400 (for species in Hawaii); Jeff Dillon, U.S. Fish and Wildlife Service, Oregon Fish and Wildlife Office, 503-231-6179 (for Warner sucker, Willamette daisy, Kincaid's lupine, and rough popcornflower); or Kim Garner, Idaho Fish and Wildlife Office, 208-378-5243 (for northern Idaho ground squirrel, Bruneau Hot springsnail, Bliss Rapids, snail, Banbury Springs limpet, and Spaldings catchfly). Individuals who are hearing impaired or speech impaired may call the Federal Relay Service at 800-877-8339 for TTY assistance.

SUPPLEMENTARY INFORMATION:

Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2) of the Act requires us to review each listed species' status at least once every 5 years. For additional information about 5-year reviews, go to http://www.fws.gov/endangered/what-we-do/recovery-overview.html, scroll down to “Learn More about 5-Year Reviews,” and click on our factsheet.

What information do we consider in the review?

A 5-year review considers all new information available at the time of the review. In conducting these reviews, we consider the best scientific and commercial data that has become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for these species.

What Species Are Under Review?

This notice announces our active review of the 76 species listed in the table below.

Species for Which the Pacific Region Is Initiating a 5-Year Status Review
Common name | Scientific name | Status | Where listed | Final listing rule (Federal Register citation and publication date)
ANIMALS
Northern Idaho ground squirrel | Urocitellus brunneus | Threatened | U.S.A. (ID) | 65 FR 17779; 04/05/2000
Maui nukupuu | Hemignathus lucidus affinis | Endangered | U.S.A. (HI) | 32 FR 4001; 03/11/1967
Maui akepa | Loxops coccineus ochraceus | Endangered | U.S.A. (HI) | 35 FR 16047; 10/13/1970
Poouli | Melamprosops phaeosoma | Endangered | U.S.A. (HI) | 40 FR 44149; 09/25/1975
Molokai thrush | Myadestes lanaiensis rutha | Endangered | U.S.A. (HI) | 35 FR 16047; 10/13/1970
Crested honeycreeper | Palmeria dolei | Endangered | U.S.A. (HI) | 32 FR 4001; 03/11/1967
Molokai creeper | Paroreomyza flammea | Endangered | U.S.A. (HI) | 35 FR 16047; 10/13/1970
Maui parrotbill | Pseudonestor xanthophrys | Endangered | U.S.A. (HI) | 32 FR 4001; 03/11/1967
Hawaiian petrel | Pterodroma sandwichensis | Endangered | U.S.A. (HI) | 32 FR 4001; 03/11/1967
Newell's Townsend's shearwater | Puffinus auricularis newelli | Threatened | U.S.A. (HI) | 40 FR 44149; 09/25/1975
Warner sucker | Catostomus warnerensis | Threatened | U.S.A. (OR) | 50 FR 39117; 09/27/1985
Hawaiian picture-wing fly | Drosophila differens | Endangered | U.S.A. (HI) | 71 FR 26835; 05/09/2006
Hawaiian picture-wing fly | Drosophila neoclavisetae | Endangered | U.S.A. (HI) | 71 FR 26835; 05/09/2006
Flying earwig Hawaiian damselfly | Megalagrion nesiotes | Endangered | U.S.A. (HI) | 75 FR 35990; 06/24/2010
Bruneau Hot springsnail | Pyrgulopsis bruneauensis | Endangered | U.S.A. (ID) | 58 FR 5938; 01/25/1993
Bliss Rapids snail | Taylorconcha serpenticola | Threatened | U.S.A. (ID) | 57 FR 59244; 12/14/1992
Banbury Springs limpet | Lanx sp. | Endangered | U.S.A. (ID) | 57 FR 59244; 12/14/1992
PLANTS
No common name | Abutilon eremitopetalum | Endangered | U.S.A. (HI) | 56 FR 47694; 09/20/1991
`Ahinahina | Argyroxiphium sandwicense ssp. macrocephalum | Threatened | U.S.A. (HI) | 57 FR 20787; 05/15/1992
Kookoolau | Bidens micrantha ssp. kalealaha | Endangered | U.S.A. (HI) | 57 FR 20787; 05/15/1992
Kookoolau | Bidens wiebkei | Endangered | U.S.A. (HI) | 57 FR 46325; 10/08/1992
Pua ala | Brighamia rockii | Endangered | U.S.A. (HI) | 57 FR 46325; 10/08/1992
Awikiwiki | Canavalia molokaiensis | Endangered | U.S.A. (HI) | 57 FR 46325; 10/08/1992
Oha wai | Clermontia oblongifolia ssp. brevipes | Endangered | U.S.A. (HI) | 57 FR 46325; 10/08/1992
Oha wai | Clermontia oblongifolia ssp. mauiensis | Endangered | U.S.A. (HI) | 57 FR 20787; 05/15/1992
Oha wai | Clermontia samuelii | Endangered | U.S.A. (HI) | 64 FR 48307; 09/02/1999
Haha | Cyanea copelandii ssp. haleakalaensis | Endangered | U.S.A. (HI) | 64 FR 48307; 09/02/1999
Haha | Cyanea dunbarii (=C. dunbariae) | Endangered | U.S.A. (HI) | 61 FR 53137; 10/10/1996
Haha | Cyanea glabra | Endangered | U.S.A. (HI) | 64 FR 48307; 09/02/1999
Haha | Cyanea hamatiflora ssp. hamatiflora | Endangered | U.S.A. (HI) | 64 FR 48307; 09/02/1999
Haha | Cyanea lobata | Endangered | U.S.A. (HI) | 57 FR 20787; 05/15/1992
Haha | Cyanea macrostegia ssp. gibsonii (=C. gibsonii) | Endangered | U.S.A. (HI) | 56 FR 47694; 09/20/1991
Haha | Cyanea magnicalyx | Endangered | U.S.A. (HI) | 77 FR 34464; 06/11/2012
Haha | Cyanea mannii | Endangered | U.S.A. (HI) | 57 FR 46325; 10/08/1992
Haha | Cyanea mceldowneyi | Threatened | U.S.A. (HI) | 57 FR 20787; 05/15/1992
Haha | Cyanea procera | Endangered | U.S.A. (HI) | 57 FR 46325; 10/08/1992
Haiwale | Cyrtandra munroi | Endangered | U.S.A. (HI) | 57 FR 20787; 05/15/1992
Naenae | Dubautia plantaginea ssp. humilis | Endangered | U.S.A. (HI) | 64 FR 48307; 09/02/1999
Willamette daisy | Erigeron decumbens | Endangered | U.S.A. (OR) | 65 FR 3875; 01/25/2000
Nohoanu | Geranium arboreum | Endangered | U.S.A. (HI) | 57 FR 20592; 05/13/1992
Nohoanu | Geranium multiflorum | Endangered | U.S.A. (HI) | 57 FR 20787; 05/15/1992
No common name | Gouania hillebrandii | Endangered | U.S.A. (HI) | 59 FR 32937; 06/27/1994
Pilo | Hedyotis mannii (=Kadua laxiflora) | Endangered | U.S.A. (HI) | 57 FR 46325; 10/08/1992
Kopa | Hedyotis schlechtendahliana var. remyi (=Kadua cordata ssp. remyi) | Endangered | U.S.A. (HI) | 64 FR 48307; 09/02/1999
Kokio keokeo | Hibiscus arnottianus ssp. immaculatus | Endangered | U.S.A. (HI) | 57 FR 46325; 10/08/1992
Cook's koki`o | Kokia cookei | Endangered | U.S.A. (HI) | 44 FR 62470; 10/30/1979
Kamakahala | Labordia tinifolia var. lanaiensis | Endangered | U.S.A. (HI) | 64 FR 48307; 09/02/1999
Kamakahala | Labordia triflora | Endangered | U.S.A. (HI) | 64 FR 48307; 09/02/1999
Kincaid's lupine | Lupinus sulfureus ssp. kincaidii | Threatened | U.S.A. (OR, WA) | 65 FR 3875; 01/25/2000
No common name | Lysimachia lydgatei | Endangered | U.S.A. (HI) | 57 FR 20787; 05/15/1992
No common name | Lysimachia maxima | Endangered | U.S.A. (HI) | 61 FR 53137; 10/10/1996
Nehe | Lipochaeta kamolensis (=Melanthera kamolensis) | Endangered | U.S.A. (HI) | 57 FR 20787; 05/15/1992
Alani | Melicope adscendens | Endangered | U.S.A. (HI) | 59 FR 62352; 12/05/1994
Alani | Melicope balloui | Endangered | U.S.A. (HI) | 59 FR 62352; 12/05/1994
Alani | Melicope knudsenii | Endangered | U.S.A. (HI) | 59 FR 9327; 02/25/1994
Alani | Melicope mucronulata | Endangered | U.S.A. (HI) | 57 FR 20787; 05/15/1992
Alani | Melicope munroi | Endangered | U.S.A. (HI) | 64 FR 48307; 09/02/1999
Alani | Melicope ovalis | Endangered | U.S.A. (HI) | 59 FR 62352; 12/05/1994
No common name | Neraudia sericea | Endangered | U.S.A. (HI) | 59 FR 56350; 11/10/1994
No common name | Phyllostegia glabra var. lanaiensis | Endangered | U.S.A. (HI) | 56 FR 47694; 09/20/1991
No common name | Phyllostegia hispida | Endangered | U.S.A. (HI) | 74 FR 11327; 03/17/2009
No common name | Phyllostegia mannii | Endangered | U.S.A. (HI) | 57 FR 46325; 10/08/1992
Rough popcornflower | Plagiobothrys hirtus | Endangered | U.S.A. (OR) | 65 FR 3866; 01/25/2000
Loulu | Pritchardia munroi | Endangered | U.S.A. (HI) | 61 FR 43184; 08/21/1996
Maui remya | Remya mauiensis | Endangered | U.S.A. (HI) | 56 FR 1454; 01/14/1991
Lanai sandalwood or iliahi | Santalum haleakalae var. lanaiense (=S. freycinetianum var. lanaiense) | Endangered | U.S.A. (HI) | 78 FR 32013; 05/28/2013
No common name | Schiedea haleakalensis | Endangered | U.S.A. (HI) | 57 FR 20787; 05/15/1992
No common name | Schiedea lydgatei | Endangered | U.S.A. (HI) | 57 FR 46325; 10/08/1992
No common name | Schiedea sarmentosa | Endangered | U.S.A. (HI) | 61 FR 53137; 10/10/1996
No common name | Silene alexandri | Endangered | U.S.A. (HI) | 57 FR 46325; 10/08/1992
Spalding's catchfly | Silene spaldingii | Threatened | U.S.A. (ID, MT, OR, WA) | 66 FR 51597; 10/10/2001
No common name | Stenogyne bifida | Endangered | U.S.A. (HI) | 57 FR 46325; 10/08/1992
Pamakani | Tetramolopium capillare | Endangered | U.S.A. (HI) | 59 FR 49863; 09/30/1994
No common name | Tetramolopium remyi | Endangered | U.S.A. (HI) | 56 FR 47694; 09/20/1991
No common name | Tetramolopium rockii | Endangered | U.S.A. (HI) | 57 FR 46325; 10/08/1992
No common name | Viola lanaiensis | Endangered | U.S.A. (HI) | 56 FR 47694; 09/20/1991

Request for New Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

If you wish to provide information for any species listed above, please submit your comments and materials to the appropriate contact in the Pacific Islands Fish and Wildlife Office, Oregon Fish and Wildlife Office, or Idaho Fish and Wildlife Office (see ADDRESSES section).

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Completed and Active Reviews

A list of all completed and currently active 5-year reviews addressing species for which the Pacific Region of the Service has lead responsibility is available at http://www.fws.gov/pacific/ecoservices/endangered/recovery/5year.html.

Authority

This document is published under the authority of the Endangered Species Act of 1973, as amended (16 U.S.C. 1531 et seq.).

Dated: December 7, 2015.
Richard R. Hannan,
Acting Regional Director, Pacific Region, U.S. Fish and Wildlife Service.

[FR Doc. 2016-02895 Filed 2-11-16; 8:45 am]

BILLING CODE 4333-15-P